TENNESSEE VALLEY AUTHORITY

Agency Information Collection Activities: Information Collection Reinstatement of a Previously Approved Information Collection; Comment Request

AGENCY: Tennessee Valley Authority (TVA).

ACTION: 60-Day notice of submission of information collection reinstatement approval and request for comments.

SUMMARY: The proposed information collection reinstatement of a previously approved, but expired, information collection described below will be submitted to the Office of Management and Budget (OMB) for review, as required by the Paperwork Reduction Act of 1995. The Tennessee Valley Authority is soliciting public comments on this proposed collection renewal.

DATES: Comments should be sent to the Public Information Collection Clearance Officer no later than April 24, 2023.

ADDRESSES: Requests for information, including copies of the information collection proposed and supporting documentation, should be directed to the Public Information Collection Clearance Officer: Jennifer A. Wilds, Specialist, Records Compliance, Tennessee Valley Authority, 400 W Summit Hill Dr., CLK-320, Knoxville, Tennessee 37902-1401.

FOR FURTHER INFORMATION CONTACT: Jennifer A. Wilds, Telephone (865) 632-6580 or by email at pra@tva.gov.

SUPPLEMENTARY INFORMATION: Type of Request: Approval of Reinstatement without modification of a previously approved, but expired, information collection.

Title of Information Collection: Land Use Survey Questionnaire—Vicinity of Nuclear Power Plants.

OMB Control Number: 3316-0016.

Current Expiration Date: 01/30/2023.

Frequency of Use: Annually.

Type of Affected Public: Individuals or households, farms and business and other for-profit.

Small Businesses or Organizations Affected: Yes.

Federal Budget Functional Category Code: 455.

Estimated Number of Annual Responses: 150.

Estimated Total Annual Burden Hours: 75.

Estimated Average Burden Hours per Response: .5.

Need for and Use of Information: This survey is used to locate, for monitoring purposes, rural residents, home gardens, and milk animals within a five-mile radius of a nuclear power plant. The monitoring program is a mandatory requirement of the Nuclear Regulatory Commission set out in the technical specifications when the plants were licensed. The ICR previously approved by OMB expired on January 31, 2023.

Rebecca L. Coffey,
Agency Records Officer.

[FR Doc. 2023-03463 Filed 2-21-23; 8:45 am]

BILLING CODE 8120-08-P